ENVIRONMENTAL PROTECTION AGENCY

[EPA-HQ-OAR-2022-0052; FRL-10872-01-OMS]

Agency Information Collection Activities; Submission to the Office of Management and Budget for Review and Approval; Comment Request; NSPS for Incinerators (Renewal)

AGENCY: Environmental Protection Agency (EPA).

ACTION: Notice.

SUMMARY: The Environmental Protection Agency (EPA) has submitted an information collection request (ICR), NSPS for Incinerators (EPA ICR Number 1058.14, OMB Control Number 2060-0040) to the Office of Management and Budget (OMB) for review and approval in accordance with the Paperwork Reduction Act. This is a proposed extension of the ICR, which is currently approved through July 31, 2023. Public comments were previously requested via the Federal Register on July 22, 2022 during a 60-day comment period. This notice allows for an additional 30 days for public comments.

DATES: Comments may be submitted on or before May 3, 2023.

ADDRESSES: Submit your comments, referencing Docket ID Number EPA-HQ-OAR-2022-0052, to EPA online using www.regulations.gov (our preferred method), by email to a-and-r-docket@epa.gov, or by mail to EPA Docket Center, Environmental Protection Agency, Mail Code 28221T, 1200 Pennsylvania Ave. NW, Washington, DC 20460. The EPA's policy is that all comments received will be included in the public docket without change including any personal information provided, unless the comment includes profanity, threats, information claimed to be Confidential Business Information (CBI), or other information whose disclosure is restricted by statute.

Submit written comments and recommendations to OMB for the proposed information collection within 30 days of publication of this notice to www.reginfo.gov/public/do/PRAMain. Find this particular information collection by selecting “Currently under Review—Open for Public Comments” or by using the search function.

FOR FURTHER INFORMATION CONTACT: Muntasir Ali, Sector Policies and Program Division (D243-05), Office of Air Quality Planning and Standards, U.S. Environmental Protection Agency, Research Triangle Park, North Carolina 27711; telephone number: (919) 541-0833; email address: ali.muntasir@epa.gov.

SUPPLEMENTARY INFORMATION: This is a proposed extension of the ICR, which is currently approved through July 31, 2023, during a 60-day comment period (87 FR 43843). An agency may not conduct or sponsor, and a person is not required to response to, a collection of information, unless it displays a currently valid OMB control number.

Public comments were previously requested, via the Federal Register on July 22, 2022, during a 60-day comment period (87 FR 43843). This notice allows for an additional 30 days for public comments. Supporting documents, which explain in detail the information that the EPA will be collecting, are available in the public docket for this ICR. The docket can be viewed online at www.regulations.gov or in person at the EPA Docket Center, WJC West Building, Room 3334, 1301 Constitution Ave. NW, Washington, DC. For additional information about EPA's public docket, visit http://www.epa.gov/dockets.

Abstract: The New Source Performance Standards (NSPS) for Incinerators (40 CFR part 60, subpart E) were proposed on July 25, 1977; and amended on May 10, 2006. These regulations apply to existing incinerators that charge more than 45 metric tons per day (50 tons per day) of solid waste, and that commenced either construction or modification after August 17, 1971. Solid waste is defined as refuse, more than 50 percent of which is municipal type waste consisting of a mixture of paper, wood, yard wastes, food wastes, plastics, leather, rubber, and other combustibles, and noncombustible materials such as glass and rock. New incinerators will be subject to either 40 CFR part 60, subpart Eb, or 40 CFR part 60, subpart AAAA. Additionally, incinerators that are covered by either 40 CFR part 60, subparts Cb, Eb, AAAA, or BBBB; or by an EPA-approved State section 111(d)/129 plan implementing Subpart Cb or BBB; or by 40 CFR part 62, subpart FFF or JJJ, not subject to the above standards. This specific information is being collected to assure compliance with 40 CFR part 60, subpart E.

In general, all NSPS standards require initial notifications, performance tests, and periodic reports by the owners/operators of the affected facilities. They are also required to maintain records of the occurrence and duration of any startup, shutdown, or malfunction in the operation of an affected facility, or any period during which the monitoring system is inoperative. These notification, reports, and records are essential in determining compliance, and are required of all affected facilities subject to the NSPS.

Form numbers: None.

Respondents/affected entities: Existing incinerators that charge more than 45 metric tons per day (50 tons per day) of solid waste, and that commenced either construction or modification after August 17, 1971.

Respondent's obligation to respond: Mandatory (40 CFR part 60, subpart E).

Estimated number of respondents: 36 (total).

Frequency of response: Initially and occasionally.

Total estimated burden: 3,730 hours (per year). Burden is defined at 5 CFR 1320.3(b).

Total estimated cost: $462,000 (per year), which includes $128,000 in annualized capital/startup and/or operation & maintenance costs.

Changes in the estimates: The total decrease in burden from the most recently approved ICR is due to adjustments. The adjustment decrease in burden from the most-recently approved ICR is due to a decrease in the number of sources. To identify the number of respondents subject to subpart E, we reviewed facilities identified in EPA's Enforcement and Compliance History Online (ECHO) database and the EPA's Large Municipal Waste Combustor and Small Municipal Waste Combustor Inventory (collected in 2019) to identify sources not subject to subpart E. The total number of respondents decreased from 87 in the previous ICR to 36 respondents. These changes reflect a more accurate estimate of the existing universe of incinerators subject to subpart E, which were last updated in 2007. In the previous ICR, estimates for Capital costs were in $2007 dollars, and the O&M costs were adjusted to $2018 dollars. For this ICR, the Capital and O&M costs were adjusted to $2021 dollars based on annual CEPCI values.

Courtney Kerwin,
Director, Regulatory Support Division.

[FR Doc. 2023-06826 Filed 3-31-23; 8:45 am]

BILLING CODE 6560-50-P